DEPARTMENT OF HOMELAND SECURITY

Federal Emergency Management Agency

44 CFR Part 67

[Docket ID FEMA-2008-0020; Internal Agency Docket No. FEMA-B-1035]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-1035, to William R. Blanton, Jr., Chief, Engineering Management Branch, Mitigation Directorate, Federal Emergency Management Agency, 500 C Street SW., Washington, DC 20472, (202) 646-3151, or (e-mail) bill.blanton@dhs.gov.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
Village of McDonald, Ohio
Ohio | Village of McDonald | Mahoning River | Approximately 8,500 feet upstream of I-80 | None | +855
|  |  | Approximately 17,600 feet upstream of I-80 | None | +858
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Village of McDonald
Maps are available for inspection at 451 Ohio Avenue, McDonald, OH 44437.

Flooding source(s) | Location of referenced elevation ** | * Elevation in feet (NGVD) + Elevation in feet (NAVD) # Depth in feet above ground: Effective | * Elevation in feet (NGVD) + Elevation in feet (NAVD) # Depth in feet above ground: Modified | Communities affected
Sebastian County, Arkansas, and Incorporated Areas
Little Vache Grasse Creek | At the Confluence of Unnamed Stream | None | +402 | City of Barling.
| Approximately 4,060 feet upstream From Rye Hill Road | None | +479
Little Vache Grasse Creek Tributary 9 | At the Confluence of Little Vache Grasse Creek | None | +434 | City of Barling.
| Approximately 3,580 feet upstream from Unnamed Road | None | +478
Unnamed Stream | At the Confluence of Little Vache Grasse Creek | None | +445 | City of Barling.
| Approximately 1,260 feet upstream from Confluence of Little Vache Grasse Creek | None | +448
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Barling
Maps are available for inspection at 304 Church Street, Barling, AR 72923.
Yolo County, California, and Incorporated Areas
Ponding Area | Area northwest of intersection of Interstate 505/County Road 90 and Russell Boulevard/Grant Avenue | None | #2 | Unincorporated Areas of Yolo County.
| Area north of Moody Slough Road, west of County Road 89, and east of County Road 88 | None | #2
| Area north of an unnamed road, west of County Road 89, and east of County Road 88 | None | #2
Zone AE Area | Area north of King Road, south of Mills Road, and east of County Road 104 | None | +23 | Unincorporated Areas of Yolo County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Yolo County
Maps are available for inspection at Yolo County Planning and Public Works Department, 292 West Beamer Street, Woodland, CA.
Linn County, Iowa, and Incorporated Areas
Big Creek | South Ely Street | None | +713 | City of Bertram.
| Big Creek Road | None | +719
Cedar Lake | Entire Shoreline of Cedar Lake | None | +727 | City of Cedar Rapids.
Cedar River | 1300 feet downstream of the confluence with Indian Creek | +712 | +711 | City of Cedar Rapids.
| Just downstream of Edgewood Road | +731 | +730
McClouds Run | 1373 feet downstream of Shaver Road Northwest | None | +728 | City of Cedar Rapids.
| 1056 feet upstream of Shaver Road Northeast | None | +728
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bertram
Maps are available for inspection at 930 First Street Southwest, Cedar Rapids, IA 52404.
City of Cedar Rapids
Maps are available for inspection at 1201 Sixth Street Southwest, Cedar Rapids, IA 52404.
Mercer County, Illinois, and Incorporated Areas
Mississippi River | From 431 miles above confluence with the Ohio River (approx. 0.1 Miles downstream of 50th Street extended) | +547 | +546 | City of New Boston, Unincorporated Areas of Mercer County.
| To 437 miles above confluence with the Ohio River (approx. 0.2 Miles downstream of Lock & Dam Road extended) | +551 | +550
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of New Boston
Maps are available for inspection at New Boston City Hall, 405 Main Street, New Boston, IL 61272.
Unincorporated Areas of Mercer County
Maps are available for inspection at Mercer County Courthouse, 100 SE 3rd Street, Aledo, IL 61231.
Acadia Parish, Louisiana, and Incorporated Areas
Flooding Effects of Mermentau River | Approximately 4126 feet upstream of the confluence of the Mermentau River and Bayou Queue de Tortue. Base Flood Elevations extend from the river edge east into the surrounding area | None | +11 | Unincorporated Areas of Acadia Parish, Village of Mermentau.
| Approximately 9450 feet upstream of the intersection of the Mermentau River and South Railroad Avenue | None | +15
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Acadia Parish
Maps are available for inspection at 568 NE Court Circle, Crowley, LA 70526.
Village of Mermentau
Maps are available for inspection at 104 7th Street, Mermentau, LA 70556.
West Baton Rouge Parish, Louisiana, and Incorporated Areas
Bayou Poydras | Approximately 160 feet downstream of State Route 413 | None | +11 | Unincorporated Areas of West Baton Rouge Parish
| Approximately 100 feet upstream of Section Road | None | +22
Chamberlin Canal | Intersection of Chamberlin Canal and Airline Highway | None | +19 | Unincorporated Areas of West Baton Rouge Parish.
| Approximately 4361 feet downstream of Section Road | None | +21
Cline Lateral | Approximately 1819 feet downstream of Section Road | None | +18 | Unincorporated Areas of West Baton Rouge Parish.
| Approximately 60 feet upstream of Tonawanda Street | None | +23
Grand Bayou | Intersection of Airline Highway and Grand Bayou. | None | +19 | Unincorporated Areas of West Baton Rouge Parish.
| Approximately 157 feet upstream of Treuil Road | None | +20
Kean Lateral | Approximately 1760 feet upstream of the intersection of Kean Lateral and Airline Highway | None | +19 | Unincorporated Areas of West Baton Rouge Parish.
| Approximately 170 feet upstream of the intersection of Section Road and Kean Lateral | None | +20
Little Stumpy Bayou | Intersection of Airline Highway and Little Stumpy Bayou | None | +16 | Unincorporated Areas of West Baton Rouge Parish.
| Approximately 4387 feet upstream of the intersection of Airline Highway and Little Stumpy Bayou | None | +17
Stumpy Bayou | Intersection of Stumpy Bayou and Airline Highway | None | +16 | Unincorporated Areas of West Baton Rouge Parish.
| Approximately 2965 feet upstream of the intersection of Elm Grove Road and Stumpy Bayou | None | +20
Tiger Bayou | Approximately 3663 feet upstream of intersection of Airline Highway and Tiger Bayou | None | +17 | Unincorporated Areas of West Baton Rouge Parish.
| Approximately 205 feet upstream of Section Road and Tiger Bayou | None | +21
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of West Baton Rouge Parish
Maps are available for inspection at 880 North Alexander Ave., Port Allen, LA 70767.
Ramsey County, Minnesota, and Incorporated Areas
Bald Eagle Lake | Entire Shoreline in Ramsey County | None | +913 | Township of White Bear.
Casey Lake | Entire Shoreline | None | +928 | City of Maplewood.
Gervais Lake | Entire Shoreline | None | +863 | City of Maplewood.
Josephine Lake | Entire Shoreline | None | +886 | City of Roseville.
Lake Owasso | Entire Shoreline | None | +889 | City of Roseville.
Little Lake Johanna | Entire Shoreline | None | +879 | City of Roseville.
Otter Lake | Entire Shoreline in Ramsey County | None | +913 | Township of White Bear.
Silver Lake | Entire Shoreline | None | +991 | City of Maplewood, City of North St. Paul.
Twin Lake | Entire Shoreline | None | +872 | City of Little Canada, City of Vadnais Heights.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Little Canada
Maps are available for inspection at Little Canada City Center, 515 Little Canada Road East, Little Canada, MN 55117-1600.
City of Maplewood
Maps are available for inspection at City Hall, 1830 County Road B East, Maplewood, MN 55109.
City of North St. Paul
Maps are available for inspection at City Hall, 2400 Margaret Street, North St. Paul, MN 55109.
City of Roseville
Maps are available for inspection at City Hall, 2660 Civic Center Drive, Roseville, MN 55113.
City of Vadnais Heights
Maps are available for inspection at City Hall, 800 East County Road East, Vadnais Heights, MN 55127.
Township of White Bear
Maps are available for inspection at Township Administration Building, 1281 Hammond Road, White Bear Township, MN 55110.
Pike County, Missouri, and Incorporated Areas
Mississippi River | Convergence of Thomas Chute | None | +450 | Unincorporated Areas of Pike County, City of Clarksville, City of Louisiana, Village of Annada.
| Convergence of Gilbert Chute | None | +469
Noix Creek | 0.67 Miles Upstream from Highway 79 | None | +465 | Unincorporated Areas of Pike County.
| Confluence of Bishop Branch | None | +477
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Clarksville
Maps are available for inspection at 111 Howard Street, Clarksville, MO 63336.
City of Louisiana
Maps are available for inspection at 202 South Third Street, Louisiana, MO 63353.
Unincorporated Areas of Pike County
Maps are available for inspection at 115 West Main Street, Bowling Green, MO 63334.
Village of Annada
Maps are available for inspection at 232 Arlington Avenue, Annada, MO 63330.

(Catalog of Federal Domestic Assistance No. 97.022, “Flood Insurance.”)

Dated: March 16, 2009.
Michael K. Buckley,
Acting Assistant Administrator, Mitigation Directorate, Department of Homeland Security, Federal Emergency Management Agency.

[FR Doc. E9-6580 Filed 3-24-09; 8:45 am]

BILLING CODE 9110-12-P